DEPARTMENT OF TRANSPORTATION

Federal Aviation Administration

14 CFR Part 39

[Docket No. FAA-2018-0286; Product Identifier 2018-CE-008-AD; Amendment 39-19340; AD 2018-15-08]

RIN 2120-AA64

Airworthiness Directives; Pacific Aerospace Limited Airplanes

AGENCY: Federal Aviation Administration (FAA), Department of Transportation (DOT).

ACTION: Final rule.

SUMMARY: We are adopting a new airworthiness directive (AD) for Pacific Aerospace Limited Model 750XL airplanes. This AD results from mandatory continuing airworthiness information (MCAI) issued by an aviation authority of another country to identify and correct an unsafe condition on an aviation product. The MCAI describes the unsafe condition as airplane sound insulation materials attached to the aft face of the firewall not complying with the applicable burn testing criteria for materials on the cabin side of the firewall. We are issuing this AD to require actions to address the unsafe condition on these products.

DATES: This AD is effective August 31, 2018.

The Director of the Federal Register approved the incorporation by reference of a certain publication listed in the AD as of August 31, 2018.

ADDRESSES: You may examine the AD docket on the internet at http://www.regulations.gov by searching for and locating Docket No. FAA-2018-0286; or in person at Docket Operations, U.S. Department of Transportation, Docket Operations, M-30, West Building Ground Floor, Room W12-140, 1200 New Jersey Avenue SE, Washington, DC 20590.

For service information identified in this AD, contact Pacific Aerospace Limited, Airport Road, Hamilton, Private Bag 3027, Hamilton 3240, New Zealand; phone: +64 7843 6144; fax: +64 843 6134; email: pacific@aerospace.co.nz; internet: www.aerospace.co.nz. You may view this referenced service information at the FAA, Policy and Innovation Division, 901 Locust, Kansas City, Missouri 64106. For information on the availability of this material at the FAA, call (816) 329-4148. It is also available on the internet at http://www.regulations.gov by searching for Docket No. FAA-2018-0286.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 by adding an AD that would apply to Pacific Aerospace Limited Model 750XL airplanes. The NPRM was published in the Federal Register on April 11, 2018 (83 FR 15517). The NPRM proposed to correct an unsafe condition for the specified products and was based on mandatory continuing airworthiness information (MCAI) originated by an aviation authority of another country. The MCAI states:

The sound insulation material on the aft face of the firewall must comply with the applicable burn test criteria specified in FAR [14 CFR] 23.853(f). [As of August 30, 2017, § 23.853 was replaced by § 23.2325 (81 FR 96572, December 30, 2016).]

Inspect the aft face of the firewall and determine if sound insulation material is installed per the instructions in Pacific Aerospace Mandatory Service Bulletin (MSB) PACSB/XL/095 issue 1, dated 21 December 2017, or later approved revision.

If a layer of black foam insulating material is found covering the firewall, then remove the material per the instructions in MSB PACSB/XL/095 before further flight.

The MCAI can be found in the AD docket on the internet at: https://www.regulations.gov/document?D=FAA-2018-0286-0002.

Comments

We gave the public the opportunity to participate in developing this AD. We received no comments on the NPRM or on the determination of the cost to the public.

Conclusion

We reviewed the relevant data and determined that air safety and the public interest require adopting the AD as proposed.

Related Service Information Under 1 CFR Part 51

We reviewed Pacific Aerospace Service Bulletin PACSB/XL/095, Issue 1, dated December 21, 2017. The service information describes procedures for inspection of the airplane sound insulation attached to the aft face of the firewall and removal if necessary. This service information is reasonably available because the interested parties have access to it through their normal course of business or by the means identified in the ADDRESSES section.

Costs of Compliance

We estimate that this AD will affect 22 products of U.S. registry. We also estimate that it would take about 1 work-hour per product to comply with the basic requirements of this AD. The average labor rate is $85 per work-hour.

Based on these figures, we estimate the cost of this AD on U.S. operators to be $1,870, or $85 per product.

In addition, we estimate that any necessary follow-on actions would take about 8 work-hours, for a cost of $680 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2018-0286; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-15-08 Pacific Aerospace Limited: Amendment 39-19340; Docket No. FAA-2018-0286; Product Identifier 2018-CE-008-AD.

(a) Effective Date

This AD becomes effective August 31, 2018.

(b) Affected ADs

None.

(c) Applicability

This AD applies to Pacific Aerospace Limited Model 750XL airplanes, all serial numbers up to and including 215, certificated in any category.

(d) Subject

Air Transport Association of America (ATA) Code 54: Nacelles/Pylons.

(e) Reason

This AD was prompted by mandatory continuing airworthiness information (MCAI) originated by an aviation authority of another country to identify and address an unsafe condition on an aviation product. The MCAI describes the unsafe condition as airplane sound insulation materials attached to the aft face of the firewall not complying with the applicable burn testing criteria for materials on the cabin side of the firewall. We are issuing this AD to prevent the spread of fire into the cabin in case of an engine fire.

(f) Actions and Compliance

Unless already done, do the following actions in paragraphs (f)(1) and (2) of this AD:

(1) Within 90 days after August 31, 2018 (the effective date of this AD), inspect the aft face of the firewall and determine if the sound insulation material is installed per the Inspection Instructions in Pacific Aerospace Service Bulletin PACSB/XL/095, Issue 1, dated December 21, 2017.

(2) If a layer of black foam insulating material is found covering the firewall during the inspection required in paragraph (f)(1) of this AD, before further flight, remove the material per the Accomplishment Instructions in Pacific Aerospace Service Bulletin PACSB/XL/095, Issue 1, dated December 21, 2017.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the Civil Aviation Authority of New Zealand (CAA).

(h) Related Information

Refer to MCAI CAA AD DCA/750XL/27A, dated March 1, 2018, for related information. You may examine the MCAI on the internet at: https://www.regulations.gov/document?D=FAA-2018-0286-0002.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Pacific Aerospace Service Bulletin PACSB/XL/095, Issue 1, dated December 21, 2017.

(ii) Reserved.

(3) For Pacific Aerospace Limited service information identified in this AD, contact Pacific Aerospace Limited, Airport Road, Hamilton, Private Bag 3027, Hamilton 3240, New Zealand; phone: +64 7843 6144; fax: +64 843 6134; email: pacific@aerospace.co.nz; internet: www.aerospace.co.nz.

(4) You may view this service information at the FAA, Policy and Innovation Division, 901 Locust, Kansas City, Missouri 64106. For information on the availability of this material at the FAA, call (816) 329-4148. In addition, you can access this service information on the internet at http://www.regulations.gov by searching for and locating Docket No. FAA-2018-0286.

(5) You may view this service information that is incorporated by reference at the National Archives and Records Administration (NARA). For information on the availability of this material at NARA, call 202-741-6030, or go to: http://www.archives.gov/federal-register/cfr/ibr-locations.html.

Issued in Kansas City, Missouri, on July 20, 2018.
Pat Mullen,
Aircraft Certification Service, Acting Deputy Director, Policy & Innovation Division, AIR-601.

[FR Doc. 2018-15980 Filed 7-26-18; 8:45 am]

BILLING CODE 4910-13-P